DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses and all associated permits are cancelled without prejudice.

Name | License # | Issuing port
International Cargo Systems, Inc | 15594 | Boston.
Florida National Brokers, Inc | 09082 | Miami.

Dated: April 29, 2008.
Daniel Baldwin,
Assistant Commissioner, Office of International Trade.

[FR Doc. E8-10319 Filed 5-7-08; 8:45 am]

BILLING CODE 9111-14-P